DEPARTMENT OF COMMERCE

National Oceanic and Atmospheric Administration

Proposed Information Collection; Comment Request; Social Values of Ecosystem Services (SolVES) in Marine Protected Areas for Management Decision-Making

AGENCY: National Oceanic and Atmospheric Administration, Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before November 22, 2013.

ADDRESSES: Direct all written comments to Jennifer Jessup, Departmental Paperwork Clearance Officer, Department of Commerce, Room 6616, 14th and Constitution Avenue NW., Washington, DC 20230 (or via the Internet at JJessup@doc.gov).

FOR FURTHER INFORMATION CONTACT: Requests for additional information or copies of the information collection instrument and instructions should be directed to Susan Lovelace, (843) 762-8933 or susan.lovelace@noaa.gov.

SUPPLEMENTARY INFORMATION

I. Abstract

This request is for a new information collection to benefit National Estuarine Research Reserve (NERR) and National Marine Sanctuary (NMS) managers in the Mission-Aransas NERR and the Olympic Coast NMS.

The Coastal Zone Management Act (CZMA), 16 U.S.C. 1451 et seq., authorizes the Secretary of Commerce to (1) preserve, protect, develop, and where possible, to restore or enhance, the resource of the Nation's coastal zone for this and succeeding generations, and (2) encourage coordination and cooperation with and among the appropriate Federal, State, and local agencies, and international organizations where appropriate, in collection, analysis, synthesis, and dissemination of coastal management information, research results, and technical assistance, to support State and Federal regulation of land use practices affecting the coastal and ocean resources of the United States. Additionally, the National Marine Sanctuary Act (NMSA), 16 U.S.C. 1431 et seq., authorizes the Secretary of Commerce to (1) maintain the natural biological communities in the national marine sanctuaries, and to protect, and, where appropriate, restore and enhance natural habitats, population and ecological processes; (2) enhance public awareness, understanding, and appreciation, and wise and sustainable use of the of the marine environment; and the natural, historical, cultural, and archeological resources of the National Marine Sanctuary System; and (3) to support, promote, and coordinate scientific research on, and long-term monitoring of, the resources of these marine areas.

The National Ocean Service (NOS) proposes to collect socio-economic data from residents of local counties and stakeholder groups using the Mission-Aransas NERR and the Olympic Coast NMS for recreational, cultural and other reasons. Up-to-date socio-economic data is needed to support the individual NERR and NMS site's conservation and management goals, to strengthen and improve resource management decision-making, to increase capacity, and to extend education and outreach efforts.

II. Method of Collection

Respondents have a choice of completing either electronic (online) or paper forms and those respondents intercepted at the sites may provide oral question responses to the surveyor. Methods of submittal include online completion of electronic survey forms, and mail and facsimile transmission of paper forms.

III. Data

OMB Control Number: None.

Form Number: None.

Type of Review: Regular submission (request for a new information collection).

Affected Public: Individuals or households; state, local, or tribal government.

Estimated Number of Respondents: 1,415.

Estimated Time per Response: Survey completion, 20 minutes.

Estimated Total Annual Burden Hours: 472.

Estimated Total Annual Cost to Public: $0 in recordkeeping/reporting costs.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: September 17, 2013.
Gwellnar Banks,
Management Analyst, Office of the Chief Information Officer.

[FR Doc. 2013-22998 Filed 9-20-13; 8:45 am]

BILLING CODE 3510-JE-P